DEPARTMENT OF COMMERCE

National Oceanic and Atmospheric Administration

Hydrographic Services Review Panel

AGENCY: National Ocean Service, National Oceanic and Atmospheric Administration (NOAA), Department of Commerce.

ACTION: Notice of Membership Solicitation for Hydrographic Services Review Panel.

SUMMARY: This notice responds to the Hydrographic Service Improvements Act Amendments of 2002, Public Law 107-372, which requires the Administrator of the National Oceanic and Atmospheric Administration (NOAA), to solicit nominations for membership on the Hydrographic Services Review Panel (HSRP). The HSRP, a Federal advisory committee, advises the Administrator on matters related to the responsibilities and authorities set forth in section 303 of the Hydrographic Services Improvement Act (HSIA) of 1998 (as amended) and such other appropriate matters as the Administrator refers to the Panel for review and advice. Those responsibilities and authorities include, but are not limited to: Acquiring and disseminating hydrographic data and providing hydrographic services, as those terms are defined in the Act; promulgating standards for hydrographic data and services; ensuring comprehensive geographic coverage of hydrographic services; and testing, developing, and operating vessels, equipment, and technologies necessary to ensure safe navigation and maintain operational expertise in hydrographic data acquisition and hydrographic services.

The Act states that “voting members of the Panel shall be individuals who, by reason of knowledge, experience, or training, are especially qualified in one or more of the disciplines and fields relating to hydrographic data and hydrographic services, marine transportation, port administration, vessel pilotage, coastal and fishery management, and other disciplines as determined appropriate by the Administrator.” The NOAA Administrator welcomes applications from individuals with expertise in navigation data, products and services; marine cartography and geospatial information systems; geodesy; physical oceanography; coastal resource management, including fisheries management and regional marine planning; and other science-related fields. To apply for membership on the Panel, applicants are asked to provide: (1) A cover letter that includes responses to the “Short Response Questions” listed below, and (2) a current resume (see ADDRESSES section). NOAA is an equal opportunity employer.

Short Response Questions:

(1) What area(s) of expertise, as listed above, would you best represent on this panel?

(2) What geographic region(s) of the country do you primarily associate your expertise with?

(3) Describe your leadership or professional experiences which you believe will contribute to the effectiveness of this panel.

(4) Generally describe the breadth and scope of stakeholders, users, or other groups whose views and input you believe you can represent on the panel.

DATES: Cover letter and current resume materials should be sent to the address, email, or fax specified and must be received by September 13, 2013.

ADDRESSES: Submit cover letter and current resume to Kathy Watson via mail, fax, or email. Mail: Kathy Watson, NOAA National Ocean Service, Office of Coast Survey, NOAA (N/CS), 1315 East West Highway, SSMC3 Rm 6126, Silver Spring, MD 20910; Fax: 301-713-4019; Email: Hydroservices.panel@noaa.gov; or kathy.watson@noaa.gov.

FOR FURTHER INFORMATION CONTACT: Kathy Watson, NOAA National Ocean Service, Office of Coast Survey, NOAA (N/CS), 1315 East West Highway, SSMC3 Rm 6126, Silver Spring, Maryland 20910; Telephone: 301-713-2770 x158, Fax: 301-713-4019; Email: Hydroservices.panel@noaa.gov; or kathy.watson@noaa.gov.

SUPPLEMENTARY INFORMATION: Under 33 U.S.C. 883a, et seq., NOAA's National Ocean Service (NOS) is responsible for providing nautical charts and related information for safe navigation. NOS collects and compiles hydrographic, tidal and current, geodetic, and a variety of other data in order to fulfill this responsibility. The HSRP provides advice on current and emerging oceanographic and marine science technologies relating to operations, research and development; and dissemination of data pertaining to:

(a) hydrographic surveying;

(b) shoreline surveying;

(c) nautical charting;

(d) water level measurements;

(e) current measurements;

(f) geodetic measurements;

(g) geospatial measurements;

(h) geomagnetic measurements; and

(i) other oceanographic/marine related sciences.

The Panel has fifteen voting members appointed by the NOAA Administrator in accordance with 33 U.S.C. 892c. Members are selected on a standardized basis, in accordance with applicable Department of Commerce guidance. In addition, there are four non-voting members that serve on the Panel: The Co-Directors of the NOAA-University of New Hampshire Joint Hydrographic Center/Center for Coastal and Ocean Mapping, and the Directors of NOAA's Office of National Geodetic Survey and NOAA's Center for Operational Oceanographic Products and Services. The Director, NOAA Office of Coast Survey, serves as the Designated Federal Official (DFO).

This solicitation is to obtain candidate applications for five (5) voting member vacancies on the Panel as of January 1, 2014. Additional appointments may be made to fill vacancies left by any members who choose to resign during 2014. Be advised that some voting members whose terms expire January 1, 2014, may be reappointed for another full term if eligible.

Full-time officers or employees of the United States may not be appointed as a voting member. Any voting member of the Panel who is an applicant for, or beneficiary of (as determined by the Administrator) any assistance under 33 U.S.C. 892c shall disclose to the Panel that relationship, and may not vote on any matter pertaining to that assistance.

Voting members of the Panel serve a four-year term, except that vacancy appointments are for the remainder of the unexpired term of the vacancy. Members serve at the discretion of the Administrator and are subject to government ethics standards. Any individual appointed to a partial or full term may be reappointed for one additional full term. A voting member may serve until his or her successor has taken office. The Panel selects one voting member to serve as the Chair and another to serve as the Vice Chair. The Vice Chair acts as Chair in the absence or incapacity of the Chair but will not automatically become the Chair if the Chair resigns. Meetings occur at least twice a year, and at the call of the Chair or upon the request of a majority of the voting members or of the Administrator. Voting members receive compensation at a rate established by the Administrator, not to exceed the maximum daily rate payable under section 5376 of title 5, United States Code, when engaged in performing duties for the Panel. Members are reimbursed for actual and reasonable expenses incurred in performing such duties.

Individuals Selected for Panel Membershp

Upon selection and agreement to serve on the HSRP Panel, you become a Special Government Employee (SGE) of the United States Government. 18 U.S.C. 202(a) an SGE (s) is an officer or employee of an agency who is retained, designated, appointed, or employed to perform temporary duties, with or without compensation, not to exceed 130 days during any period of 365 consecutive days, either on a fulltime or intermittent basis. Please be aware that after the selection process is complete, applicants selected to serve on the Panel must complete the following actions before they can be appointed as a Panel member:

(a) Security Clearance (on-line Background Security Check process and fingerprinting conducted through NOAA Workforce Management); and

(b) Confidential Financial Disclosure Report—As an SGE, you are required to file a Confidential Financial Disclosure Report to avoid involvement in a real or apparent conflict of interest. You may find the Confidential Financial Disclosure Report at the following Web site. http://www.usoge.gov/forms/form_450.aspx

Dated: August 8, 2013.
Gerd F. Glang,
Director, Office of Coast Survey, National Ocean Service, National Oceanic and Atmospheric Administration.

[FR Doc. 2013-19941 Filed 8-15-13; 8:45 am]

BILLING CODE 3510-JE-P